DEPARTMENT OF THE INTERIOR

Bureau of Land Management

[CA-018-1430-01; CACA 52573]

Notice of Proposed Withdrawal and Opportunity for Public Meeting; California

AGENCY: Bureau of Land Management, Interior.

ACTION: Notice.

SUMMARY: The Assistant Secretary of the Interior for Policy, Management and Budget proposes to withdraw, on behalf of the Bureau of Land Management (BLM), approximately 6,737.42 acres of public lands from location and entry under the United States mining laws for a period of 20 years to protect natural resources and recreation values associated with the congressionally designated Auburn Reservoir Site and Recreation Area. This notice temporarily segregates the land for up to 2 years from mining while various studies and analyses are made to support a final decision on the withdrawal application.

DATES: Comments should be received on or before December 3, 2012.

ADDRESSES: Comments should be sent to the BLM, Mother Lode Field Office, 5152 Hillsdale Circle, El Dorado Hills, California 95762.

FOR FURTHER INFORMATION CONTACT: Jodi Lawson, Realty Specialist, BLM, Mother Lode Field Office, 916-941-3139. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The purpose of the proposed withdrawal is to provide long-term protection of lands associated with the congressionally designated Auburn Dam Reclamation project area while a decision on future development of the site is pending. The site is currently managed as a recreation area; therefore, a withdrawal will also preserve riparian areas, wildlife habitat, scenic quality, and public recreation opportunities. The lands will remain open to leasing under the mineral leasing laws. Any previously authorized grants or rights-of-way located on the lands described in this notice will not be affected by this notice. The lands are described as follows:

Mount Diablo Meridian

T. 12 N., R. 8 E.,

Sec. 12, S½SW¼;

Sec. 25, North Extension of the Wilhelm Lode Mineral Survey No. 6091.

T. 12 N., R. 9 E.,

Sec. 1, lots 10 and 11;

Sec. 4, lots 12, 13, 14, and S½NE¼;

Sec. 5, lots 19, 20, and 21;

Sec. 18, lot 1.

T. 13 N., R. 9 E.,

Sec. 1, that portion of unpatented Mineral Survey No. 2653 lying in the NE¼;

Sec. 2, lots 1, 2, and 7, N½SW¼, SW¼SW¼, and N½SE¼SW¼;

Sec. 11, lot 2 and S½SW¼;

Sec. 13, SE¼SE¼;

Sec. 22, N½SW¼ and SW¼SW¼;

Sec. 23, Mineral Survey U-3;

Sec. 25, SE¼NE¼, W½NW¼SE¼, W½W½W½SW¼SE¼, and Summit Hill Consolidated Quartz Mine;

Sec. 28, NW¼SW¼, N½SW¼SW¼, E½SW¼SW¼SW¼, and W½SE¼SW¼SW¼;

Sec. 32, lots 4 and 5;

Sec. 34, lot 4.

T. 13 N., R. 10 E.,

Sec. 2, lot 1, and lots 3 to 15, inclusive;

Sec. 9, lots 8, 12, and 13, and SW¼NE¼;

Sec. 10, lots 1 to 10, inclusive, E½NE¼, E½NW¼, SW¼NW¼, and SE¼SE¼;

Sec. 11, lot 1 and SW¼NE¼;

Sec. 18, lots 1 to 4, inclusive, S½ of lot 5, S½ of lot 8, lots 11 and 13;

Sec. 19, lot 24;

Sec. 20, lots 1, 2, 3, and 8, N½NE¼, and SE¼NE¼;

Sec. 30, lots 1, 5, and 6, S½NE¼, and NE¼SE¼.

T. 14 N., R. 9 E.,

Sec. 1, lot 5, Gitaway Quartz Mine, Blue Rock Quartz Mine, and S½NW¼;

Sec. 12, N½ and SE¼;

Sec. 13, NE¼;

Sec. 24, S½;

Sec. 25, lots 9 to 13, inclusive, and lots 15 to 22, inclusive, NE¼SE¼, S½SW¼, and SW¼SE¼;

Sec. 35, lots 5, 6, and 7, NE¼, E½NW¼, SW¼SW¼, and E½SE¼;

Sec. 36, lots 2, 3, 7, 8, 9, 14, and 22, and NW¼.

T. 14 N., R. 10 E.,

Sec. 7, lots 6, 15, 27, 28, 42, and 45;

Sec. 18, lots 2 to 7, inclusive, and lots 10 to 15, inclusive;

Sec. 30, lots 4, 8, 9, 10, lots 15 to 18, inclusive, NE¼, E½NW¼, SE¼SW¼, and SW¼SE¼.

T. 15 N., R. 9 E.,

Sec. 36, E½NW¼SW¼, unsurveyed S½SE¼SW¼, and unsurveyed SW¼SE¼.

The areas described aggregate 6,737.42 acres, more or less, in El Dorado and Placer Counties.

The BLM's petition has been approved by the Assistant Secretary for Policy, Management and Budget. Therefore, the petition constitutes a withdrawal proposal of the Secretary of the Interior (43 CFR 2310.1-3(e)).

The use of a right-of-way, interagency, or cooperative agreement would not adequately constrain non-discretionary uses that could irrevocably destroy the area's cultural resources, scenic, and recreational values of the Auburn Dam area. There are no suitable alternative sites for the requested withdrawal associated with the Auburn Dam Project area.

Until December 3, 2012, all persons who wish to submit comments, suggestions, or to request a public meeting in connection with the proposed withdrawal may present their views in writing, by the date specified above to the Field Manager, BLM Mother Lode Field Office, 5152 Hillsdale Circle, El Dorado Hills, California 95762.

Comments, including names and street addresses for respondents, will be available for public review at the BLM's Mother Lode Field Office, during regular business hours, 7:30 a.m. to 4:00 p.m., Monday through Friday, except holidays. Individual respondents may request confidentiality. Before including your address, telephone number, email address, or other personal identifying information in your comment, you should be aware that your entire comment—including your personal identifying information—may be publicly available at any time. While you can ask us in your comment to withhold your personal identifying information from public review, we cannot guarantee that we will be able to do so. All submissions from organizations or businesses, and from individuals identifying themselves as representatives or officials of organizations or businesses, will be made available for public inspection in their entirety.

Notice is hereby given that at least one public meeting will be held in connection with the proposed withdrawal. Upon determination of the time and place, a notice will be published in both the Federal Register and a local newspaper at least 30 days prior to the scheduled date of the meetings. All interested persons who desire additional public meetings for the purpose of being heard on the proposed withdrawal must submit a written request to the Field Manager, Mother Lode Field Office, BLM, 5152 Hillsdale Circle, El Dorado Hills, California, no later than December 3, 2012.

For a period until September 4, 2014, the lands will be segregated from location and entry under the United States mining laws, but not from leasing under the mineral leasing laws, unless the application is denied or canceled or the withdrawal is approved prior to that date.

Licenses, permits, cooperative agreement, or discretionary land use authorizations of a temporary nature that will not significantly impact the values to be protected by the withdrawal may be allowed with the approval of the authorized officer of the BLM during the temporary segregative period.

The application will be processed in accordance with the regulations set forth in 43 CFR 2310.1-2.

Cynthia Staszak,
Associate Deputy State Director, Natural Resources, California State Office.

[FR Doc. 2012-21673 Filed 8-31-12; 8:45 am]

BILLING CODE 4310-70-P